DEPARTMENT OF TRANSPORTATION

Pipeline and Hazardous Materials Safety Administration

49 CFR Part 195

[Docket No. PHMSA-2015-0173]

Pipeline Safety: Notice of Liquid Pipeline Advisory Committee Meeting

AGENCY: Pipeline and Hazardous Materials Safety Administration (PHMSA); DOT.

ACTION: Notice of Liquid Pipeline Advisory Committee meeting.

SUMMARY: This document announces a public meeting of the Liquid Pipeline Advisory Committee (LPAC). The committee will meet to consider and vote on the proposed rule, “Pipeline Safety: Safety of Hazardous Liquid Pipelines,” and the associated regulatory assessment.

DATES: The meeting will be held on Monday, February 1, 2016, from 10:00 a.m. to 5:00 p.m. EST.

The meeting will not be web cast; however, presentations will be available on the meeting Web site and posted on the E-Gov Web site: http://www.regulations.gov under docket number PHMSA-2015-0173 within 30 days following the meeting.

ADDRESSES: The meeting will take place in the Washington, DC Metropolitan area at a location yet to be determined. The location of the meeting and other details will be posted on the PHMSA Web site under Regulations/Pipeline Advisory Committees at http://www.phmsa.dot.gov/pipeline/regs/technical-advisory-comm about 15 days before the meeting date. Individuals wishing to attend and receive an email with the location should register in advance at https://primis.phmsa.dot.gov/meetings/MtgHome.mtg?mtg=110 or contact the individual listed under FOR FURTHER INFORMATION CONTACT by January 15, 2016.

Comments on the meeting may be submitted to the docket in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-001.

Hand Delivery: Room W12-140 on the ground level of the DOT West Building, 1200 New Jersey Avenue SE., Washington, DC, between 9:00 a.m. and 5:00 p.m., Monday through Friday, except on Federal Holidays.

Instructions: Identify the docket numbers, PHMSA-2010-0229 and PHMSA-2015-0173 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or view the Privacy Notice at http://www.regulations.gov before submitting any such comments.

Docket: For access to the docket or to read background documents or comments, go to http://www.regulations.gov at any time or to Room W12-140 on the ground level of the DOT West Building, 1200 New Jersey Avenue SE., Washington, DC, between 9:00 a.m. and 5:00 p.m., Monday through Friday, except Federal holidays.

If you wish to receive confirmation of receipt of your written comments, please include a self-addressed, stamped postcard with the following statement: “Comments on PHMSA-2010-0229 and PHMSA 2015-0173.” The Docket Clerk will date-stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement

Anyone may search the electronic form of all comments received for any of our dockets. You may review DOT's complete Privacy Act Statement in the Federal Register published on April 11, 2000, (70 FR 19477) or visit http://dms.dot.gov.

Information on Services for Individuals With Disabilities

For information on facilities or services for individuals with disabilities, or to seek special assistance at the meeting, please contact Cheryl Whetsel at 202-366-4431 by January 15, 2016.

FOR FURTHER INFORMATION CONTACT: For information about the meetings, contact Cheryl Whetsel by phone at 202-366-4431 or by email at cheryl.whetsel@dot.gov or for technical questions about the proposed rule contact Mike Israni by phone at 202-366-4595 or by email at mike.israni@dot.gov.

SUPPLEMENTARY INFORMATION:

I. Meeting Details

Members of the public may attend and make a statement during the advisory committee meetings. For a better chance to speak at the meetings, please contact the individual listed under FOR FURTHER INFORMATION CONTACT by January 15, 2016.

II. Committee Background

The LPAC is a statutorily created committee that advises PHMSA on proposed safety standards, risks assessments, and safety policies for hazardous liquid pipelines (49 U.S.C. 60115). The committee's activities are subject to the Federal Advisory Committee Act (Pub. L. 92-463, 5 U.S.C. App. 1). The committee consists of 15 members—with membership evenly divided among the federal and state government, the regulated industry, and the public. The committee advises PHMSA on technical feasibility, practicability, and cost-effectiveness of each proposed pipeline safety standard. PHMSA staff may also provide an update on several regulatory and policy initiatives if time allows.

III. Preliminary Agenda

The agenda will include the committee's discussion and vote on the proposed rule, “Pipeline Safety: Safety of Hazardous Liquid Pipelines,” published in the Federal Register on October 13, 2015, (80 FR 61610) and on the associated regulatory analysis.

The proposed rule includes critical safety improvements for hazardous liquid pipelines and seeks to strengthen the way they are operated, inspected and maintained in the United States.

In this proposed rule, PHMSA addresses effective measures that hazardous liquid operators can take to improve the protection of high consequence areas and other vulnerable areas along their hazardous liquid onshore pipelines. In summary, the proposed rule addresses the following areas:

• Requirements for gravity lines.

• Reporting requirements for gathering lines.

• Inspections of pipelines following extreme weather events.

• Periodic assessments of pipelines not subject to integrity management.

• Pipeline repair criteria.

• Expanded use of leak detection systems.

• Increased use of in-line inspection tools.

• Clarifying other requirements.

Issued in Washington, DC, on January 4, 2016, under authority delegated in 49 CFR 1.97.
Alan K. Mayberry,
Deputy Associate Administrator for Policy and Programs.

[FR Doc. 2016-00135 Filed 1-7-16; 8:45 am]

BILLING CODE 4910-60-P